FEDERAL COMMUNICATIONS COMMISSION

47 CFR Part 73

[DA 04-1057, MM Docket No. 03-320, RM-10816]

Digital Television Broadcast Service; Bloomington, IN

AGENCY: Federal Communications Commission.

ACTION: Final rule.

SUMMARY: The Commission, at the request of Tribune Broadcasting Holding, Inc., substitutes DTV channel 48 for DTV channel 53 at Bloomington. See 68 FR 64579, November 14, 2003. DTV channel 48 can be allotted to Bloomington, Indiana, in compliance with the principle community coverage requirements of Section 73.625(a) at reference coordinates 39-24-27 N. and 86-08-52 W. with a power of 840, HAAT of 357 meters and with a DTV service population of 1815 thousand. Since the community of Bloomington is located within 400 kilometers of the U.S.-Canadian border, concurrence from the Canadian government was obtained for this allotment. With this action, this proceeding is terminated.

DATES: Effective June 10, 2004.

FOR FURTHER INFORMATION CONTACT: Pam Blumenthal, Media Bureau, (202) 418-1600.

SUPPLEMENTARY INFORMATION: This is a synopsis of the Commission's Report and Order, MM Docket No. 03-230, adopted April 20, 2004, and released April 26, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com.

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Indiana, is amended by removing DTV channel 53 and adding DTV channel 48 at Bloomington.

Federal Communications Commission.
Barbara A. Kreisman,
Chief, Video Division, Media Bureau.

[FR Doc. 04-10580 Filed 5-7-04; 8:45 am]

BILLING CODE 6712-01-P